GENERAL SERVICES ADMINISTRATION

Privacy Act of 1974; Proposed Revisions to a Privacy Act System of Records

AGENCY: General Services Administration.

ACTION: Notice of proposed revision to an existing Privacy Act system of records.

SUMMARY: The General Services Administration (GSA) proposes to revise the system of records, Credentials, Passes, and Licenses (GSA/HRO-8). The purpose of the system is to assemble in one system information on passes and credentials for identification and security purposes. The system is being revised to cover new categories of individuals, consisting of Federal tenants and contractors, to provide greater security and control access to Federal buildings and systems. In addition, administrative enhancements to improve system effectiveness and operation include an upgrade in electronic capabilities through the use of Smart Card technology, and updates to agency forms, organizational responsibilities, and office addresses.

DATES: Interested persons may submit written comments on this proposal. The revision will become effective without further notice on September 10, 2003, unless comments received on or before that date require changes to the proposal.

ADDRESSES: Comments should be submitted to the GSA Privacy Act Officer (CI), Office of the Chief People Officer, General Services Administration, 1800 F Street, NW., Washington DC 20405.

FOR FURTHER INFORMATION CONTACT: The GSA Privacy Act Officer at the above address, or call 202-501-1452.

Dated: July 31, 2003.
Fred Alt,
Chief Information Officer, Office of the Chief People Officer.

GSA/HRO-8

System name:

Credentials, Passes, and Licenses (GSA/HRO-8).

System location:

This system of records is operated and maintained by the Office of the Chief Information Officer (CIO) for GSA's Services, Staff Offices, and regions, which are responsible for ensuring the integrity of the data in the system. System records are located in Central Office at 1800 F Street, NW., Washington DC, and in the regional offices listed in the Appendix.

Categories of individuals covered by the system:

GSA associates, Federal tenants, contractors, and other persons assigned responsibilities that require the issuance of credentials for identification and security purposes, including individuals participating in identification methods using the latest technologies, such as biometrics (e.g., electronic fingerprinting).

Categories of records in the system:

Passes, licenses, and identification credentials, which may contain name, Social Security Number, photograph, office and home addresses and phone numbers, signature, identification serial number, next of kin name and phone number, medical information, and biometric identification information. The following GSA forms and associated databases will be used agency-wide:

a. GSA Form 277, Employee Identification and Authorization Credential (Revised 2003);

b. GSA Form 277U, Temporary Pass;

c. GSA Form 277V, Visitor Pass;

d. OF 7, Property Pass;

e. GSA Form 2941, Parking Application; and

f. Biometric information, such as fingerprints, collected electronically.

Authority for maintenance of the system:

The Federal Property and Administrative Services Act of 1949 (63 Stat. 377) as amended.

Purpose:

To assemble in one system information pertaining to passes and credentials for identification and security purposes; to facilitate the issuance and control of cards, parking permits, building passes, licenses, and similar credentials; and to ensure only authorized access to secure areas and systems.

Routine uses of records maintained in the system, including categories of users and the purposes of such uses:

Information from this system may be disclosed as a routine use:

a. To the Federal, State, or local agency responsible for investigating, prosecuting, enforcing, or implementing a statute, rule, regulation, or order, where the General Services Administration becomes aware of a violation or potential violation of civil or criminal law or regulation.

b. To a member of Congress or a congressional staff member in response to an inquiry from that congressional office made at the request of the individual who is the subject of a record.

c. To another Federal agency or to a court when the government is party to a judicial proceeding before the court.

d. To a Federal agency, on request, in connection with the hiring and retention of an employee, the issuance of a security clearance, the conducting of a security or suitability investigation of an individual, the classifying of a job, the letting of a contract, or the issuance of license, grant, or other benefit by the requesting agency, to the extent that the information is relevant and necessary to the requesting agency's decision.

e. By the Office of Personnel Management in the production of summary descriptive statistics in support of the function for which the records are collected and maintained, or for related workforce studies.

f. To the Office of Management and Budget in connection with the review of private relief legislation as set forth in OMB Circular No. A-19 at any stage of the legislative coordination and clearance process.

g. To officials of the Merit Systems Protection Board, including the Office of Special Counsel; the Federal Labor Relations Authority and its General Counsel; or the Equal Employment Opportunity Commission when requested in the performance of their authorized duties.

h. To an authorized appeal or grievance examiner, formal complaints examiner, equal employment opportunity investigator, arbitrator, or other duly authorized official engaged in investigation or settlement of a grievance, complaint, or appeal filed by an employee to whom the information pertains.

i. To the Office of Personnel Management in accordance with the agency's responsibility for evaluation of Federal personnel management.

j. To the extent that official personnel records in the custody of GSA are covered within the systems or records published by the Office of Personnel Management as Government-wide records, they will be considered a part of that government-wide system. Other official personnel records covered by notices published by GSA and considered to be separate systems of records may be transferable to the Office of Personnel Management in accordance with official personnel programs and activities as a routine use.

k. To an expert, consultant, or a contractor of GSA to the extent necessary to further the performance of a Federal duty.

l. To medical personnel in the event of a medical emergency.

Policies and practices for storing, retrieving, accessing, retaining, and disposing of records in the system:

Storage:

Information is collected electronically and stored in Smart Card chips on the individual's identification cards, and in associated automated data systems.

Retrievability:

Name, SSN, and identification and badge serial numbers.

Safeguards:

When not in use by an authorized person, the records are stored in an electronic data system. Electronic records are protected by a password and may also have a personal identification number (PIN) as a second level of protection.

Retention and disposal:

Disposition of records is according to the National Archives and Records Administration (NARA) guidelines, as set forth in the handbook, GSA Records Maintenance and Disposition System (OAD P 1820.2) and authorized GSA records schedules.

System managers and address:

Director, Office of Infrastructure Operations (IO), Office of the Chief Information Officer, General Services Administration, 1800 F Street, NW., Washington DC 20405. The IO operates and maintains the database containing system information for GSA Services, Staff Offices, and regions.

Notification procedure:

Individuals will be able to access, review, and update their own personal information in the system. Individuals may determine whether the system contains their records by submitting a request to the System Manager or the appropriate regional Credentialing Office listed in the Appendix.

Record access procedures:

Individuals whose records are in the system will be provided access to their own information.

Contesting record procedures:

Individuals wishing to request amendment of their records should contact the System Manager or the appropriate Credentialing Office listed in the Appendix.

Record source categories:

Information is provided by individuals being issued credentials and by the issuing officials.

Appendix: GSA Regional Credentialing Office Addresses:

New England Region (includes Connecticut, Maine, Massachusetts, New Hampshire, Rhode Island, and Vermont): General Services Administration, 10 Causeway Street, Boston, MA 02222.

Northeast and Caribbean Region (includes New Jersey, New York, Puerto Rico, and Virgin Islands): General Services Administration, 26 Federal Plaza, New York, NY 10278.

Mid-Atlantic Region (includes Delaware, Maryland, Pennsylvania, Virginia and West Virginia, (but excludes the National Capital Region): General Services Administration, The Strawbridge Building, 20 North Eighth Street, Philadelphia, PA 19107-3191.

Southeast Sunbelt Region (includes Alabama, Florida, Georgia, Kentucky, Mississippi, North Carolina, South Carolina, and Tennessee): General Services Administration, Summit Building, 401 West Peachtree Street, Atlanta, GA 30365-2550.

Great Lakes Region (includes Illinois, Indiana, Michigan, Ohio, Minnesota, and Wisconsin): General Services Administration, 230 South Dearborn Street, Chicago, IL 60604-1696.

The Heartland Region (includes Iowa, Kansas, Missouri, and Nebraska) General Services Administration: 1500 East Bannister Road, Kansas City, MO 64131-3088.

Greater Southwest Region (includes Arkansas, Louisiana, Oklahoma, New Mexico, and Texas), General Services Administration, 819 Taylor Street, Fort Worth, TX 76102.

Rocky Mountain Region (includes Colorado, Montana, North Dakota, South Dakota, Utah, and Wyoming): General Services Administration, Denver Federal Center, Bldg 41, Lakewood, CO 80011.

Pacific Rim Region (includes Arizona, California, Hawaii, and Nevada) General Services Administration: 450 Golden Gate Avenue, San Francisco, CA 94102-3488.

Northwest/Arctic Region (includes Alaska, Idaho, Oregon, and Washington) General Services Administration: 400 15th Street, SW., Auburn, WA 98001-6599.

National Capital Region (includes the District of Columbia; the counties of Montgomery and Prince George's in Maryland; the city of Alexandria, Virginia; and the counties of Arlington, Fairfax, Loudoun, and Prince William in Virginia): General Services Administration, 7th and D Streets, SW., Washington, DC 20407.

[FR Doc. 03-20357 Filed 8-8-03; 8:45 am]

BILLING CODE 6820-34-P